DEPARTMENT OF TRANSPORTATION

Federal Aviation Administration

14 CFR Part 39

[Docket No. FAA-2004-18038; Directorate Identifier 2004-NE-01-AD]

RIN 2120-AA64

Airworthiness Directives; Honeywell International Inc., (Formerly AlliedSignal, Inc., Formerly Textron Lycoming) T5309, T5311, T5313B, T5317A, T5317A-1, and T5317B Series, and T53-L-9, T53-L-11, T53-L-13B, T53-L-13BA, T53-L-13B S/SA, T53-L-13B S/SB, T53-L-13B/D, and T53-L-703 Series Turboshaft Engines

AGENCY: Federal Aviation Administration (FAA), DOT.

ACTION: Notice of proposed rulemaking (NPRM); reopening of the comment period.

SUMMARY: The FAA is reopening the comment period of a proposed airworthiness directive (AD) for Honeywell International Inc., (formerly AlliedSignal, Inc., formerly Textron Lycoming) T5309, T5311, T5313B, T5317A, T5317A-1, and T5317B series turboshaft engines, installed on, but not limited to, Bell 205 and Kaman K-1200 series helicopters, and T53-L-9, T53-L-11, T53-L-13B, T53-L-13BA, T53-L-13B S/SA, T53-L-13B S/SB, T53-L-13B/D, and T53-L-703 series turboshaft engines, installed on, but not limited to, Bell AH-1 and UH-1 helicopters, certified under § 21.25 or 21.27 of the Code of Federal Regulations (14 CFR 21.25 or 14 CFR 21.27). The proposed AD would require operators to remove from service affected compressor, gas producer, and power turbine rotating components at reduced life limits, and would require use of replacement drawdown schedules for components on certain engine models that exceed the new limits. Since issuing the NPRM, we have determined that the comment period for NPRM, Docket No. FAA-2004-18038 (69 FR 33599, June 16, 2004) should be reopened and the public should have additional time to comment.

DATES: We must receive any comments on this proposed AD by March 31, 2005.

ADDRESSES: Use one of the following addresses to comment on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: (202) 493-2251.

• Hand Delivery: Room PL-401 on the plaza level of the Nassif Building, 400 Seventh Street, SW., Washington, DC, between 9 a.m. and 5 p.m., Monday through Friday, except Federal holidays.

You can get the service information identified in this proposed AD from Honeywell International Inc., Attn: Data Distribution, M/S 64-3/2101-201, P.O. Box 29003, Phoenix, AZ 85038-9003; telephone: (602) 365-2493; fax:(602) 365-5577.

You may examine the comments on this proposed AD in the AD docket on the Internet at http://dms.dot.gov.

FOR FURTHER INFORMATION CONTACT: Robert Baitoo, Aerospace Engineer, Los Angeles Aircraft Certification Office, FAA, Transport Airplane Directorate, 3960 Paramount Blvd., Lakewood, CA 90712-4137; telephone: (562) 627-5245, fax: (562) 627-5210.

SUPPLEMENTARY INFORMATION:

Comments Invited

We invite you to send us any written relevant data, views, or arguments regarding this proposal. Send your comments to an address listed under ADDRESSES. Include “Docket No. FAA-2004-18038; Directorate Identifier 2004-NE-01-AD” in the subject line of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of the DMS Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the AD Docket

You may examine the docket that contains the proposal, any comments received and, any final disposition in person at the DMS Docket Offices between 9 a.m. and 5 p.m., Monday through Friday, except Federal holidays. The Docket Office (telephone (800) 647-5227) is located on the plaza level of the Department of Transportation Nassif Building at the street address stated in ADDRESSES. Comments will be available in the AD docket shortly after the DMS receives them.

Discussion

We published a proposal to amend part 39 of the Code of Federal Regulations (14 CFR part 39) to include an AD that would apply to Honeywell International Inc. T5309, T5311, T5313B, T5317A, T5317A-1, and T5317B Series, and T53-L-9, T53-L-11, T53-L-13B, T53-L-13BA, T53-L-13B S/SA, T53-L-13B S/SB, T53-L-13B/D, and T53-L-703 series turboshaft engines in the Federal Register as a notice of proposed rulemaking (NPRM) on June 16, 2004 (69 FR 33599). The NPRM proposed to require operators to remove from service affected compressor, gas producer, and power turbine rotating components at reduced life limits, and would require use of replacement drawdown schedules for components on certain engine models that exceed the new limits. The NPRM resulted from continuous analysis of field-returned hardware indicating smaller service life margins than originally expected.

Reason for This Action

We held a public meeting on February 8, 2005, at which we received additional data from operators of the affected engines. We determined that we should reopen the comment period to allow an additional opportunity for operators and other interested persons who were not able to attend the public meeting to submit comments. We are particularly interested in receiving comments from operators of the affected engines as to what life limits they are using for the components identified in the proposed AD, what cycle counting methods they employ, what historical lifing records did they receive when they acquired the engine, and what mission profiles are they flying.

We will address all comments in any final rule or subsequent action taken by us on this subject. We are republishing the actual AD portion of the NPRM, Docket No. FAA-2004-18038, for the convenience of the owners and operators of the affected engines.

Authority for this Rulemaking

Title 49 of the United States Code specifies the FAA's authority to issue rules on aviation safety. Subtitle I, section 106, describes the authority of the FAA Administrator. Subtitle VII, Aviation Programs, describes in more detail the scope of the Agency's authority.

We are issuing this rulemaking under the authority described in Subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary at the address listed under ADDRESSES.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Honeywell International Inc., (formerly AlliedSignal, Inc., formerly Textron Lycoming): Docket No. FAA-2004-18038; Directorate Identifier 2004-NE-01-AD.

Comments Due Date

(a) The Federal Aviation Administration (FAA) must receive comments on this airworthiness directive (AD) action by March 31, 2005.

Affected ADs

(b) None.

Applicability

(c) This AD applies to Honeywell International Inc., (formerly AlliedSignal, Inc., formerly Textron Lycoming) T5309, T5311, T5313B, T5317A, T5317A-1, and T5317B series turboshaft engines, installed on, but not limited to, Bell 205 and Kaman K-1200 series helicopters, and T53-L-9, T53-L-11, T53-L-13B, T53-L-13BA, T53-L-13B S/SA, T53-L-13B S/SB, T53-L-13B/D, and T53-L-703 series turboshaft engines, installed on, but not limited to, Bell AH-1 and UH-1 helicopters, certified under § 21.25 or 21.27 of the Code of Federal Regulations (14 CFR 21.25 or 14 CFR 21.27).

Unsafe Condition

(d) This AD results from continuous analysis of field-returned hardware indicating smaller service life margins than originally expected. We are issuing this AD to prevent failure of compressor, gas producer, and power turbine rotating components, which could result in an uncontained failure of the engine and damage to the helicopter.

Compliance

(e) You are responsible for having the actions required by this AD performed within the compliance times specified unless the actions have already been done.

T5309, T5311, T53-L-9, and T53-L-11 Series Turboshaft Engines

(f) For T5309, T5311, T53-L-9, and T53-L-11 series turboshaft engines, within 100 operating hours after the effective date of this AD, compute the total operating hours and cycles and replace rotating components before they exceed the service life limits. Use 2.a. through 2.f. and Component Service Life Limits Table 1 of Accomplishment Instructions of Lycoming Service Bulletin (SB) No. 0002, Revision 2, dated March 6, 1989.

T5313B, T5317A, T5317A-1, and T5317B Turboshaft Engines

(g) For T5313B, T5317A, T5317A-1, and T5317B turboshaft engines, within 100 operating hours after the effective date of this AD, compute the total operating hours and cycles and replace the rotating components before they exceed the service life limits. Use 2.A. through 2.K. and Component Service Life Limits Table 1 of Accomplishment Instructions of Honeywell International Inc., SB No. T5313B/17-0020, Revision 7, dated November 21, 2002.

(h) For T513B, T5317A, T5317A-1, and T5317B turboshaft engines that have one or more rotating components that exceed the limits specified in Component Service Life Limits Table 1 of Honeywell International Inc. SB No. T5313B/17-0020, Revision 7, dated November 21, 2002, replace the components using the applicable drawdown schedule in Table 1 of Honeywell International Inc. SB No. T5313B-0125, dated March 15, 2001 or Honey well International Inc. SB No. T5317-0125, dated March 15, 2001.

T53-L-13B, T53-L-13BA, T53-L-13B S/SA, and T53-L-13B S/SB Turboshaft Engines

(i) For T53-L-13B, T53-L-13BA, T53-L-13B S/SA, and T53-L-13B S/SB turboshaft engines, within 100 operating hours after the effective date of this AD, compute the total operating hours and cycles and replace the rotating components before they exceed the service life limits. Use 2.A. through 2.J. and Component Service Life Limits Table 1 of Accomplishment Instructions of Honeywell International Inc. SB No. T53-L-13B-0020, Revision 3, dated October 25, 2001.

(j) For T53-L-13B, T53-L-13BA, T53-L-13B S/SA, and T53-L-13B S/SB turboshaft engines that have one or more rotating components that exceed the limits in Component Service Life Limits Table 1 of Honeywell SB No. T53-L-13B-0020, Revision 3, dated October 25, 2001, replace the components using the applicable drawdown schedule in Table 1 of Honeywell International Inc. SB No. T53-L-13B-0125, dated April 5, 2001.

T53-L-13B/D Turboshaft Engines

(k) For T53-L-13B/D turboshaft engines, within 100 operating hours after the effective date of this AD, compute the total operating hours and cycles and replace the rotating components before they exceed the service life limits. Use 2.A. through 2.J. and Component Service Life Limits Table 1 of Accomplishment Instructions of Honeywell International Inc. SB No. T53-L-13B/D-0020, Revision 2, dated November 25, 2002.

(l) For T53-L-13B/D turboshaft engines that have one or more rotating components that exceed the limits in Component Service Life Limits Table 1 of Honeywell International Inc. SB No. T53-L-13B/D-0020, Revision 2, dated November 25, 2002, replace the components using the applicable drawdown schedule in Table 1 of Honeywell International Inc. SB No. T53-L-13B/D-0125, dated April 5, 2001.

T53-L-703 Turboshaft Engines

(m) For T53-L-703 turboshaft engines, within 100 operating hours after the effective date of this AD, compute the total operating hours and cycles and replace the rotating components before they exceed the service life limits. Use 2.A. through 2.K. and Component Service Life Limits Table 1 of Accomplishment Instructions of Honeywell International Inc. SB No. T53-L-703-0020, Revision 2, dated November 25, 2002.

(n) For T53-L-703 turboshaft engines that have one or more rotating components that have exceeded the limits in Component Service Life Limits Table 1 of Honeywell International Inc. SB No. T53-L-703-0020, Revision 2, dated November 25, 2002, replace the components using the applicable drawdown schedule in Table 1 of Honeywell International Inc. SB No. T53-L-703-0125, dated April 5, 2001.

Computing Compliance Intervals

(o) For the purposes of this AD, use the effective date of this AD for computing compliance intervals whenever the SBs refer to the release date of the SB.

Prohibition of Removed Rotating Components

(p) Do not reinstall any rotating component that is replaced as specified in paragraphs (f) through (n) of this AD, into any engine.

Alternative Methods of Compliance

(q) The Manager, Los Angeles Aircraft Certification Office, has the authority to approve alternative methods of compliance for this AD if requested using the procedures found in 14 CFR 39.19.

Material Incorporated by Reference

(r) None.

Related Information

(s) None.

Issued in Burlington, Massachusetts, on March 2, 2005.
Jay J. Pardee,
Manager, Engine and Propeller Directorate, Aircraft Certification Service.

[FR Doc. 05-4404 Filed 3-11-05; 8:45 am]

BILLING CODE 4910-13-P